DEPARTMENT OF STATE

[Public Notice 8594]

Determination by the Secretary of State Relating to Iran Sanctions

AGENCY: Department of State

This notice is to inform the public that the Secretary of State determined, on November 29, 2013, pursuant to Section 1245(d)(4)(D) of the National Defense Authorization Act for Fiscal Year 2012 (NDAA) (Pub. L. 112-81), as amended by the Iran Threat Reduction and Syria Human Rights Act (Pub. L. 112-158), that as of November 29, 2013, each of the following importers of oil from Iran has qualified for the 180-day exception outlined in section 1245(d)(4)(D): India, Malaysia, the People's Republic of China, the Republic of Korea, Singapore, South Africa, Sri Lanka, Taiwan, and Turkey. The Secretary of State last made exception determinations under Section 1245(d)(4)(D) of the NDAA regarding these importers on June 5, 2013.

FOR FURTHER INFORMATION CONTACT: Carlos Pascual, Special Envoy and Coordinator, Bureau of Energy Resources, (202) 647-8543.

Carlos Pascual,
Bureau of Energy Resources, Department of State.

[FR Doc. 2014-00628 Filed 1-14-14; 8:45 am]

BILLING CODE 4710-02-P